DEPARTMENT OF ENERGY

Federal Energy Regulatory Commission

Combined Notice of Filings

Take notice that the Commission has received the following Natural Gas Pipeline Rate and Refund Report filings:

Docket Numbers: RP21-216-000.

Applicants: Driftwood Holdings LLC, Driftwood LNG LLC.

Description: Joint Petition For Limited Waiver, et al. of Driftwood Holdings LLC., et al. under RP21-216.

Filed Date: 11/13/20.

Accession Number: 20201113-5244.

Comments Due: 5 p.m. ET 11/25/20.

Docket Numbers: RP21-220-000.

Applicants: Iroquois Gas Transmission System, L.P.

Description: § 4(d) Rate Filing: 111720 Negotiated Rates—Mercuria Energy America, LLC R-7540-02 to be effective 12/1/2020.

Filed Date: 11/17/20.

Accession Number: 20201117-5009.

Comments Due: 5 p.m. ET 11/30/20.

Docket Numbers: RP21-221-000.

Applicants: Northwest Pipeline LLC.

Description: § 4(d) Rate Filing: NWP 2021 Leap Year Rate Removal to be effective 1/1/2021.

Filed Date: 11/17/20.

Accession Number: 20201117-5030.

Comments Due: 5 p.m. ET 11/30/20.

Docket Numbers: RP21-222-000.

Applicants: LLOG Exploration & Production Company, L, Talos Exploration, LLC.

Description: Joint Petition For Limited Waiver, et al. of LLOG Exploration & Production Company, L.L.C., et al. under RP21-222.

Filed Date: 11/17/20.

Accession Number: 20201117-5153.

Comments Due: 5 p.m. ET 11/24/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2020.
Nathaniel J. Davis, Sr.,
Deputy Secretary.

[FR Doc. 2020-25928 Filed 11-23-20; 8:45 am]

BILLING CODE 6717-01-P